DEPARTMENT OF LABOR

Employment and Training Administration

[TA-W-42,213]

John Boyle and Associates, LLC, DBA Synergetics, Easton, PA; Notice of Termination of Investigation

Pursuant to section 221 of the Trade Act of 1974, an investigation was initiated on October 7, 2002 in response to a petition filed by a company official on September 16, 2002 on behalf of workers at John Boyle and Associates, LLC, dba Synergetics, Easton, Pennsylvania.

The petitioner has requested that the petition be withdrawn. Consequently, further investigation in this case would serve no purpose, and the investigation has been terminated.

Signed in Washington, DC, this 13th day of November, 2002.
Elliott S. Kushner,
Certifying Officer, Division of Trade Adjustment Assistance.

[FR Doc. 02-29640 Filed 11-20-02; 8:45 am]

BILLING CODE 4510-30-P